DEPARTMENT OF HEALTH AND HUMAN SERVICES

Centers for Disease Control and Prevention

Prospective Grant of Exclusive License: Diagnostics of Fungal Infections; Correction

In the notice document appearing on page 33905 in the Federal Register issued on Friday, June 10, 2005, Vol. 70, No. 111, make the following correction:

On page 33905 under Centers for Disease Control and Prevention, change the title “Prospective Grant of Exclusive License: Diagnostics of Fungal Infections” to “Prospective Grant of Exclusive License: System and Methods for Aerosolized Delivery of Vaccines” (remove previous title “Diagnostics of Fungal Infections”).

All other information in the document remains unchanged.

Dated: June 24, 2005.
James D. Seligman,
Associate Director for Program Services, Centers for Disease Control and Prevention.

[FR Doc. 05-13132 Filed 7-1-05; 8:45 am]

BILLING CODE 4163-18-P